DEPARTMENT OF COMMERCE

Foreign-Trade Zones Board

[B-30-2014]

Foreign-Trade Zone 134—Chattanooga, Tennessee; Application for Reorganization/Expansion Under Alternative Site Framework

An application has been submitted to the Foreign-Trade Zones (FTZ) Board by the Chattanooga Chamber Foundation, grantee of FTZ 134, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on March 26, 2014.

FTZ 134 was approved by the FTZ Board on January 30, 1987 (Board Order 339, 52 FR 4370, 2/11/87) and expanded on April 18, 2008 (Board Order 1555, 73 FR 24939-24940, 5/6/2008). On February 22, 2000, the grant of authority was reissued to the Chattanooga Chamber Foundation (Board Order 1075, 65 FR 11548, 03/03/2000).

The current zone includes the following sites: Site 1 (3 acres)—Cherokee Warehouses, 3318 Amnicola Highway, Chattanooga; Site 2 (230 acres)—Riverport Industrial Park, Amnicola Highway and Stuart Street, Chattanooga; Site 3 (3,133 acres) Enterprise South Industrial Park, Highway 58 and South Hickory Valley Road, Chattanooga; Site 9 (523 acres)—Nickajack Port and Industrial Park, New Hope; Site 10 (12 acres)—Hiwassee River Industrial Park, 1590 Lauderdale Memorial Parkway, NW., Charleston; Site 11 (87 acres)—Cleveland/Bradley Industrial Park, 620 Industrial Drive, Cleveland; Site 13 (6 acres)—Roper Corporation, 3825 Davy Crockett Drive, Cleveland; Site 14 (53 acres, expires 12/31/14)—Komatsu America Corporation, 409 Signal Mountain Road, Chattanooga; Site 15 (7 acres, expires 12/31/14)—VW Group of America Chattanooga Operations, 6170 and 6301 Enterprise Park Drive, Chattanooga; and, Site 16 (19 acres, expires 12/31/14)—VW Group of America Chattanooga Operations, 5901 Shallowford Road, Chattanooga. (Sites 4, 5, 6, 7, 8 and 12 expired on April 30, 2013).

The grantee's proposed service area under the ASF would be Hamilton, Marion, Grundy, Warren, Sequatchie, Bledsoe, Rhea, Meigs, Bradley, Polk and McMinn Counties, as described in the application. If approved, the grantee would be able to serve sites throughout the service area based on companies' needs for FTZ designation. The proposed service area is within and adjacent to the Chattanooga Customs and Border Protection port of entry.

The applicant is requesting authority to reorganize and expand its existing zone to remove temporary Site 15 and to include existing Sites 1, 2, 3, 9, 10 and 11 as “magnet” sites and existing Sites 13, 14 and 16 as usage-driven sites. The ASF allows for the possible exemption of one magnet site from the “sunset” time limits that generally apply to sites under the ASF, and the applicant proposes that Site 3 be so exempted.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is June 2, 2014. Rebuttal comments in response to material submitted during the foregoing period may be submitted during the subsequent 15-day period to June 16, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Kathleen Boyce at Kathleen.Boyce@trade.gov or at (202) 482-1346.

Dated: March 27, 2014.
Andrew McGilvray,
Executive Secretary.

[FR Doc. 2014-07260 Filed 3-31-14; 8:45 am]

BILLING CODE 3510-DS-P